DEPARTMENT OF COMMERCE

International Trade Administration

[A-588-835]

Oil Country Tubular Goods From Japan: Notice of Extension of Preliminary Results of Antidumping Duty Administrative Review

AGENCY: Import Administration, International Trade Administration, Department of Commerce.

ACTION: Notice of extension of time limits for preliminary results of antidumping duty administrative review.

EFFECTIVE DATE: August 10, 2000.

FOR FURTHER INFORMATION CONTACT: Thomas Gilgunn, Import Administration, International Trade Administration, U.S. Department of Commerce, 14th Street and Constitution Avenue, NW, Washington, DC 20230; telephone: (202) 482-0648.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1998).

Extension of Time Limits for Preliminary Results

The Department of Commerce has received a request to conduct an administrative review of the antidumping duty order on oil country tubular goods from Japan. The Department initiated this antidumping administrative review for Sumitomo Metal Industries, Hallmark Tubulars Ltd., Itochu Corporation, Itochu Project Management Corporation, and Nippon Steel Corporation on October 1, 1999 (64 FR 53318). The review covers the period August 1, 1998 through July 31, 1999.

Because of the extraordinary complexity of certain issues, it is not practicable to complete these reviews within the time limits mandated by section 751(a)(3)(A) of the Act. Therefore, in accordance with that section, the Department is extending the time limits for the preliminary results to August 30, 2000 (See Memorandum from Edward C. Yang to Joseph A. Spetrini, “Extension of Time Limit for the Preliminary Results of the Antidumping Duty Administrative Review of Oil Country Tubular Goods (OCTG).” This extension of time limits is in accordance with section 751(a)(3)(A) of the Act.

Dated: August 3, 2000.
Richard O. Weible,
Acting Deputy Assistant Secretary for AD/CVD Enforcement III.

[FR Doc. 00-20331 Filed 8-9-00; 8:45 am]

BILLING CODE 3510-DS-P